TENNESSEE VALLEY AUTHORITY

Meeting of the Regional Resource Stewardship Council

AGENCY: Tennessee Valley Authority (TVA).

ACTION: Notice of Federal Advisory Committee Act meeting.

SUMMARY: The TVA Regional Resource Stewardship Council (RRSC) will hold a meeting on September 20 and 21, 2022, regarding TVA's natural resources and stewardship matters in the Tennessee Valley.

DATES: The meeting will be held in Knoxville, Tennessee at TVA's Knoxville Office Complex, West Tower, in the main auditorium on Tuesday, September 20, 2022, from 8:30 a.m. to 4:00 p.m. E.T. and Wednesday, September 21, 2022, from 8:30 a.m. to 12:30 p.m. E.T. RRSC council members are invited to attend the meeting in person. The public is invited to view the meeting virtually or to attend in-person. Health and safety protocols may be required for those who attend in-person as TVA is following CDC guidance on masking and social distancing. A one hour virtual or in-person public listening session will be held September 21, at 9 a.m. E.T. A link and instructions to view the meeting will be posted on TVA's RRSC website at www.tva.gov/rrsc at least one week prior to the scheduled meeting.

ADDRESSES: The public is invited to view the meeting virtually or attend in person. The in-person meeting will be held in the main TVA West Tower Auditorium at 400 W Summit Hill Dr. SW, Knoxville, TN 37902. Due to COVID 19 conditions, anyone wishing to attend in person must preregister by 5:00 p.m. E.T. Friday, September 16, 2022, by emailing bhaliti@tva.gov. Members of the public are also invited to speak either virtually or in person during a public listening session. Persons who wish to speak must preregister by 5:00 p.m. E.T. Friday, September 16, 2022, by emailing bhaliti@tva.gov and specify whether they wish to speak virtually or in-person. Anyone needing special accommodations should let the contact below know at least one week in advance.

FOR FURTHER INFORMATION CONTACT: Bekim Haliti, bhaliti@tva.gov, 931-349-1894.

SUPPLEMENTARY INFORMATION: The RRSC is a discretionary advisory committee established under the authority of the Tennessee Valley Authority (TVA) in accordance with the provisions of the Federal Advisory Committee Act (FACA), as amended, 5 U.S.C. app. 2.

The meeting agenda includes the following:

Day 1—September 20

1. Welcome and Introductions

2. RRSC and TVA Meeting Update

3. TVA's River Operations Policy

4. Review of Advice Questions

5. Discuss Advice Statement

Day 2—September 21

6. Welcome and Review of Day 1

7. Public Listening Session

8. Update on TVA's River Management

9. Update on TVA's Natural Resources

10. Finalize RRSC Advice Statement

The RRSC will hear views of the public by providing a 1-hour public comment session starting September 21 at 9:00 a.m. ET. Persons wishing to speak must register at bhaliti@tva.gov or call 931-349-1894 by 5:00 p.m. EDT, on Friday, September 16, 2022, and will be called on during the public listening session for up to five minutes to share their views. Written comments are also invited and may be emailed to bhaliti@tva.gov or mailed to the Regional Resource Stewardship Council, Tennessee Valley Authority, 400 West Summit Hill Drive, WT 9D, Knoxville Tennessee 37902.

Dated: August 19, 2022.
Melanie Farrell,
Vice President, External Stakeholders and Regulatory Oversight, Tennessee Valley Authority.

[FR Doc. 2022-18340 Filed 8-24-22; 8:45 am]

BILLING CODE 8120-08-P